DEPARTMENT OF ENERGY

Federal Energy Regulatory Commission

[Project No. P-11879-002]

Symbiotics, LLC; Notice of Settlement Agreement and Soliciting Comments

November 9, 2007.

Take notice that the following settlement agreement has been filed with the Commission and is available for public inspection.

a. Type of Application: Settlement Agreement.

b. Project No.: P-11879-002.

c. Date filed: October 26, 2007.

d. Applicant: Symbiotics, LLC.

e. Name of Project: Chester Diversion Hydroelectric Project.

f. Location: On Henry's Fork of the Snake River, near the Town of Rexburg, in Fremont County, Idaho. The project would occupy 2 acres of U.S. Bureau of Reclamation (BOR) land.

g. Filed Pursuant to: Rule 602 of the Commission's Rules of Practice and Procedure, 18 CFR 385.602.

h. Applicant Contact: Mr. Brent L. Smith, Northwest Power Services, Inc., PO Box 535, Rigby, ID 83442, (208) 745-0834 or Dr. Vincent A. Lamarra, Ecosystems Research Institute, 975 South State Highway, Logan, UT 84321, (435) 752-2580.

i. FERC Contact: Emily Carter at (202) 502-6512, or Emily.Carter@ferc.gov.

j. Deadline for filing comments: 20 days from the notice date. Reply comments are due 30 days from the notice date.

k. All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

l. Symbiotics, LLC (Symbiotics) filed the Settlement Agreement on behalf of itself and the other signatories to the Settlement Agreement. The U.S. Department of Agriculture—Forest Service, U.S. Department of Interior—Fish and Wildlife Service, Idaho Department of Fish and Game, Idaho Department of Parks and Recreation, Trout Unlimited, the Henry's Fork Foundation, and the Greater Yellowstone Coalition. The purpose of the Settlement Agreement is to resolve among the signatories all issues regarding fish, wildlife, recreational, and aesthetic resources associated with issuance of an original license for the proposed project. The parties, through Symbiotics, request that the Commission consider the protection, mitigation, and enhancement measures outlined in the Settlement Agreement in the Final Environmental Assessment for the proposed project and that the Commission includes them in any license issued for the proposed Chester Hydroelectric Project.

m. A copy of the settlement agreement is available for review at the Commission on the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

Kimberly D. Bose,
Secretary.

[FR Doc. E7-22620 Filed 11-19-07; 8:45 am]

BILLING CODE 6717-01-P